NATIONAL AERONAUTICS AND SPACE ADMINISTRATION

[Notice 04-141]

Notice of Establishment of a NASA Advisory Committee, Pursuant to the Federal Advisory Committee Act, 5 U.S.C. App 1 et seq.

AGENCY: National Aeronautics and Space Administration (NASA).

Explanation of Need: The Administrator of the National Aeronautics and Space Administration has determined that the establishment of a NASA Exploration Transportation System Strategic Roadmap Committee is necessary and in the public interest in connection with the performance of duties imposed upon NASA by law. This determination follows consultation with the Committee Management Secretariat, General Services Administration.

Name of Committee: NASA Exploration Transportation System Strategic Roadmap Committee.

Purpose and Objective: The Committee will advise the NASA Administrator on developing a new launch system and crew exploration vehicle to provide transportation to and beyond low Earth orbit. The Committee will draw on the expertise of its members and other sources to provide its advice and recommendations to the Agency. The Committee will hold meetings and make site visits as necessary to accomplish their responsibilities. The Committee will function solely as an advisory board and will comply fully with the provisions of the Federal Advisory Committee Act.

Lack of Duplication of Resources: The Committee's functions cannot be performed by the agency, another existing committee, or other means such as a public meeting.

Fairly Balanced Membership: The Committee will consist of a balance of experts from within the government, private industry, and academia. In addition, there may be additional experts selected for Subcommittees or Task Forces. Members of the Committee, Subcommittee or Task Forces will be chosen from among industry, academia, and government with recognized knowledge and expertise in specific areas across the NASA portfolio. Total membership will reflect a fairly balanced view.

Duration: Ad hoc.

Responsible NASA Official: Dr. Marc Allen, Advanced Planning and Integration Office, National Aeronautics and Space Administration, 300 E Street, SW., Washington, DC 20546, telephone (202) 358-2373.

P. Diane Rausch,
Advisory Committee Management Officer, National Aeronautics and Space Administration.

[FR Doc. 04-26970 Filed 12-7-04; 8:45 am]

BILLING CODE 7510-13-P